ENVIRONMENTAL PROTECTION AGENCY

40 CFR Part 300

[EPA-HQ-SFUND-2012-0063; FRL-10012-86-Region 4]

National Oil and Hazardous Substances Pollution Contingency Plan; National Priorities List: Deletion of the Fairfax St. Wood Treaters Superfund Site

AGENCY: Environmental Protection Agency (EPA).

ACTION: Final rule.

SUMMARY: The Environmental Protection Agency (EPA) Region 4 announces the deletion of the Fairfax St. Wood Treaters Superfund Site (Site) located in Jacksonville, Florida, from the National Priorities List (NPL). The NPL, promulgated pursuant to Section 105 of the Comprehensive Environmental Response, Compensation, and Liability Act (CERCLA) of 1980, as amended, is an appendix of the National Oil and Hazardous Substances Pollution Contingency Plan (NCP). The EPA and the State of Florida, through the Florida Department of Environmental Protection (FDEP), have determined that all appropriate response actions under CERCLA, have been completed. However, this deletion does not preclude future actions under Superfund.

DATES: This action is effective August 18, 2020.

ADDRESSES:

Docket: The EPA has established a docket for this action under Docket Identification No. EPA-HQ-SFUND-2012-0063. All documents in the docket are listed on the http://www.regulations.gov website. Although listed in the index, some information is not publicly available, i.e., Confidential Business Information or other information whose disclosure is restricted by statute. Certain other material, such as copyrighted material, is not placed on the internet and will be publicly available only in hard copy form.

The EPA is temporarily suspending its Docket Center and Regional Records Centers for public visitors to reduce the risk of transmitting COVID-19. In addition, many site information repositories are closed and information in these repositories, including the deletion docket, has not been updated with hardcopy or electronic media. For further information and updates on EPA Docket Center services, please visit us online at https://www.epa.gov/dockets.

The EPA continues to carefully and continuously monitor information from the Centers for Disease Control and Prevention (CDC), local area health departments, and our Federal partners so that we can respond rapidly as conditions change regarding COVID.

FOR FURTHER INFORMATION CONTACT: Leigh Lattimore, Remedial Project Manager, U.S. Environmental Protection Agency, Region 4, 61 Forsyth Street SW—MS9T25, Atlanta, GA 30303, (404) 562-8768, email: lattimore.leigh@epa.gov.

SUPPLEMENTARY INFORMATION: The site to be deleted from the NPL is: Fairfax St. Wood Treaters Superfund Site, Jacksonville, Florida. A Notice of Intent to Delete for this Site was published in the Federal Register (85 FR 36368 citation) on June 16, 2020.

The closing date for comments on the Notice of Intent to Delete was July 16, 2020. One public comment was received. The comment received was not related to the deletion rule-making. A responsiveness summary was prepared and placed in the docket, EPA-HQ-SFUND-2012-0063, on https://www.regulations.gov.

The EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: July 23, 2020.
Mary Walker,
Regional Administrator, Region 4.

For reasons set out in the Preamble, 40 CFR part 300 is amended as follows:

PART 300—NATIONAL OIL AND HAZARDOUS SUBSTANCES POLLUTION CONTINGENCY PLAN

1. The authority citation for Part 300 is revised to read as follows:

Authority: 33 U.S.C. 1251 et seq.

Appendix B to Part 300—[Amended]

2. Table 1 of Appendix B to Part 300 is amended by removing “FL”, “Fairfax St. Wood Treaters”, “Jacksonville”.

[FR Doc. 2020-16375 Filed 8-17-20; 8:45 am]

BILLING CODE 6560-50-P